DEPARTMENT OF ENERGY

Federal Energy Regulatory Commission

[Docket No. EG01-26-000, et al.]

Calumet Energy Team, LLC, et al.; Electric Rate and Corporate Regulation Filings

November 14, 2000.

Take notice that the following filings have been made with the Commission:

1. Calumet Energy Team, LLC

[Docket No. EG01-26-000]

Take notice that on November 7, 2000, Calumet Energy Team, LLC, c/o Wisvest Corporation, N16 W23217 Stone Ridge Drive, Suite 100, Waukesha, WI 53188, filed with the Federal Energy Regulatory Commission an application for determination of exempt wholesale generator status pursuant to section 32(a)(1) of the Public Utility Holding Company Act of 1935. The applicant is a limited liability company organized under the laws of the State of Delaware that is engaged directly and exclusively in developing, owning, and operating a gas-fired, nominally 300 MW simple-cycle peaking power plant in Chicago, Illinois. The applicant's power plant will be an eligible facility.

Comment date: December 5, 2000, in accordance with Standard Paragraph E at the end of this notice. The Commission will limit its consideration of comments to those that concern the adequacy or accuracy of the application.

2. Chandler Wind Partners, LLC

[Docket No. EG01-27-000]

Take notice that on November 8, 2000, Chandler Wind Partners, LLC, of 63-655 19th Avenue, P.O. Box 1043, North Palm Springs, California 92258, filed with the Federal Energy Regulatory Commission an application for determination of exempt wholesale generator status pursuant to Part 365 of the Commission's regulations.

Chandler Wind Partners, LLC, is a Delaware limited liability company that owns and operates an approximately 1.98 megawatt (nameplate capacity) wind generation facility, comprised of three (3) Vestas V47-660kw wind turbine generators (the Facility). The Facility is located in Murray County, Minnesota. Chandler Wind Partners, LLC is engaged directly and exclusively in the business of owning and operating all or part of one or more eligible facilities and selling electric energy at wholesale.

Comment date: December 5, 2000, in accordance with Standard Paragraph E at the end of this notice. The Commission will limit its consideration of comments to those that concern the adequacy or accuracy of the application.

3. Wheelabrator Lassen Inc.

[Docket No. QF81-21-003]

Take notice that on November 1, 2000, Wheelabrator Lassen Inc. (Lassen) filed a request for recertification that, subsequent to a change in upstream ownership, a 42-megawatt power generation facility that is owned and operated by Lassen and is located in Anderson, Shasta County, California, is a qualifying cogeneration facility.

Comment date: December 1, 2000, in accordance with Standard Paragraph E at the end of this notice.

4. Wheelabrator Hudson Energy Company Inc.

[Docket No. QF81-35-002]

Take notice that on November 1, 2000, Wheelabrator Hudson Energy Company Inc. (Hudson) filed a request for recertification that, subsequent to a change in upstream ownership, a six-megawatt qualifying cogeneration facility that is owned and operated by Hudson and is located in Anderson, California, is a qualifying cogeneration facility.

Comment date: December 1, 2000, in accordance with Standard Paragraph E at the end of this notice.

5. Martell Cogeneration Limited Partnership

[Docket No. QF85-20-001]

Take notice that on November 1, 2000, Wheelabrator Martell Inc. (Martel), successor in interest to Martell Cogeneration Limited Partnership, filed a request for recertification that, subsequent to a change in upstream ownership, an 18-megawatt qualifying cogeneration facility that is owned and operated by Martell and is located in Martell, California, is a qualifying cogeneration facility.

Comment date: December 1, 2000, in accordance with Standard Paragraph E at the end of this notice.

6. Wheelabrator Frackville Energy Company Inc.

[Docket No. QF85-204-003]

Take notice that on November 1, 2000, Wheelabrator Frackville Energy Company Inc. (Frackville) filed a request for recertification that, subsequent to a change in upstream ownership, a 42-megawatt qualifying cogeneration facility that is owned and operated by Frackville and is located in Frackville, Pennsylvania, is a qualifying cogeneration facility.

Comment date: December 1, 2000, in accordance with Standard Paragraph E at the end of this notice.

7. Wheelabrator Sherman Energy Company

[Docket No. QF85-698-001]

Take notice that on November 1, 2000, Wheelabrator Sherman Energy Company (Sherman) filed a request for recertification that, subsequent to a change in upstream ownership, an 18-megawatt qualifying small power production facility that is leased and operated by Sherman and is located in Penobscot County, Maine, is a qualifying small power production facility.

Comment date: December 1, 2000, in accordance with Standard Paragraph E at the end of this notice.

8. Ridge Generating Station Limited Partnership

[Docket No. QF92-158-001]

Take notice that on November 1, 2000, Ridge Generating Station Limited Partnership (Ridge) filed a request for recertification that, subsequent to a change in upstream ownership, a qualifying small power production facility with a net capacity of 39.6 megawatts that is owned and operated by Ridge and is located in Polk County, Florida, is a qualifying small power production facility.

Comment date: December 1, 2000, in accordance with Standard Paragraph E at the end of this notice.

9. Wheelabrator Norwalk Energy Company Inc.

[Docket No. QF01-15-001]

Take notice that on November 1, 2000, Wheelabrator Norwalk Energy Company Inc. (Norwalk) filed a request for recertification that, subsequent to a change in upstream ownership, a 27.9-megawatt qualifying cogeneration facility that is leased and operated by Norwalk and is located in Norwalk, California, is a qualifying cogeneration facility.

Comment date: December 1, 2000, in accordance with Standard Paragraph E at the end of this notice.

10. Western Michigan University

[Docket No. QF01-31-000]

Take notice that on November 1, 2000, Western Michigan University, 1201 Stadium Drive, Kalamazoo, Michigan, 49008, filed with the Federal Energy Regulatory Commission an application to be certified as a qualifying facility pursuant to section 292.207 of the Commission's rules.

The facility under consideration provides essential steam and electric services to the University campus. Two (2) gas turbine machines have been installed, the head output of which would be used to produce steam for the back-pressure steam turbine as well as the steam needs of the campus and electrical power for the purposes of supplying the electrical needs of the campus. It is the intent of the facility to operate in parallel with the local utility (Consumer Energy Company) as a paralleling source and sink for any excess electrical power produced as a result of this operation. The primary fuel for this facility is natural gas. The peak power production at this facility will be 10,583 kW.

Comment date: December 1, 2000, in accordance with Standard Paragraph E at the end of this notice.

Standard Paragraphs

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance).

Linwood A. Watson, Jr.,
Acting Secretary.

[FR Doc. 00-29739 Filed 11-20-00; 8:45 am]

BILLING CODE 6717-01-P